DEPARTMENT OF ENERGY

Federal Energy Regulatory Commission

Sunshine Act Meeting Notice

The following notice of meeting is published pursuant to section 3(a) of the government in the Sunshine Act (Pub. L. 94-409), 5 U.S.C. 552b:

AGENCY HOLDING MEETING: Federal Energy Regulatory Commission.

DATE AND TIME: May 15, 2014 10:00 a.m.

PLACE: Room 2C, 888 First Street, NE., Washington, DC 20426.

STATUS: OPEN.

MATTERS TO BE CONSIDERED: Agenda.

* NOTE—Items listed on the agenda may be deleted without further notice.

CONTACT PERSON FOR MORE INFORMATION: Kimberly D. Bose, Secretary, Telephone (202) 502-8400.

For a recorded message listing items struck from or added to the meeting, call (202) 502-8627.

This is a list of matters to be considered by the Commission. It does not include a listing of all documents relevant to the items on the agenda. All public documents, however, may be viewed on line at the Commission's Web site at http://www.ferc.gov using the eLibrary link, or may be examined in the Commission's Public Reference Room.

1005TH—Meeting
[Regular meeting, May 15, 2014, 10:00 a.m.]
Item No. | Docket No. | Company
Administrative
A-1 | AD02-1-000 | Agency Business Matters.
A-2 | AD02-7-000 | Customer Matters, Reliability, Security and Market Operations.
A-3 | AD05-9-000 | Energy Market and Reliability Assessment.
Electric
E-1 | ER13-107-003 | South Carolina Electric & Gas Company.
| ER13-107-005
E-2 | ER13-187-002 | Midwest Independent Transmission System Operator, Inc. and the MISO Transmission Owners.
| ER13-187-003 ER13-187-004
| ER13-186-001
| ER13-89-001 | MidAmerican Energy Company and Midwest Independent Transmission System Operator, Inc.
| ER13-89-002
| ER13-101-002 | American Transmission Company LLC and Midwest Independent Transmission System Operator, Inc.
| ER13-101-003
| ER13-84-001 | Cleco Power LLC.
| ER13-95-001 | Entergy Arkansas, Inc.
E-3 | ER13-198-001 | PJM Interconnection, L.L.C.
| ER13-198-002
| ER13-195-001 | Indicated PJM Transmission Owners.
| ER13-90-001 | PJM Interconnection, L.L.C. and Public Service Electric and Gas Company.
| ER13-90-002
E-4 | ER13-85-001 | Maine Public Service Company.
| ER13-85-002
| ER13-1909-000
E-5 | ER11-2127-003 | Terra-Gen Dixie Valley, LLC.
| ER11-2127-004
| EL11-37-001
| EL10-29-003 | Terra-Gen Dixie Valley, LLC, TGP Dixie Development Company, LLC and New York Canyon, LLC.
| EL10-36-003 | Green Borders Geothermal, LLC v. Terra-Gen Dixie Valley, LLC.
E-6 | RM14-11-000 | Open Access and Priority Rights on Interconnection Customer's Interconnection Facilities.
E-7 | TX11-1-001 | Southern Cross Transmission LLC and Pattern Power Marketing LLC.
E-8 | EL14-9-000 | Gregory and Beverly Swecker v. Midland Power Cooperative.
| QF11-424-002
| EL14-18-000 | Gregory and Beverly Swecker v. Midland Power Cooperative and Central Iowa Power Cooperative.
Miscellaneous
M-1 | RM01-5-001 | Electronic Tariff Filings.
M-2 | IN13-15-000 | BP America Inc.
| BP Corporation North America Inc.
| BP America Production Company.
| BP Energy Company.
G-1 | OR14-21-000 | North Dakota Pipeline Company LLC.
G-2 | RP14-393-000 | Columbia Gas Transmission, LLC.
G-3 | RP12-514-002 | Tennessee Gas Pipeline Company, L.L.C.
| RP11-1566-014
| RP11-2066-003
Hydro
H-1 | P-6618-007 | Christopher M. Anthony.
H-2 | OMITTED
H-3 | P-1290-013 | Appalachian Power Company.
Certificates
C-1 | CP13-83-000 | Arlington Storage Company, LLC.

Issued: May 8, 2014.
Kimberly D. Bose,
Secretary.

A free webcast of this event is available through www.ferc.gov. Anyone with Internet access who desires to view this event can do so by navigating to www.ferc.gov's Calendar of Events and locating this event in the Calendar. The event will contain a link to its webcast. The Capitol Connection provides technical support for the free webcasts. It also offers access to this event via television in the DC area and via phone bridge for a fee. If you have any questions, visit www.CapitolConnection.org or contact Danelle Springer or David Reininger at 703-993-3100.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

[FR Doc. 2014-11011 Filed 5-9-14; 11:15 am]

BILLING CODE 6717-01-P